DEPARTMENT OF THE TREASURY

Internal Revenue Service

Privacy Act of 1974, as Amended

AGENCY: Internal Revenue Service, Treasury.

ACTION: Notice of alteration to a Privacy Act system of records.

SUMMARY: In accordance with the requirements of the Privacy Act of 1974, as amended, 5 U.S.C. 552a, the Treasury Department, Internal Revenue Service, gives notice of a proposed alteration to the system of records, Treasury/IRS 60.000—Employee Protection System Records.

DATES: Comments must be received no later than June 3, 2005. The system of records will be effective June 13, 2005, unless comments are received which result in a contrary determination.

ADDRESSES: Comments should be sent to the Office of Governmental Liaison and Disclosure, Internal Revenue Service, 1111 Constitution Ave., NW., Washington, DC 20224. Comments will be made available for inspection and copying in the National Office room upon request. An appointment for inspecting the comments can be made by calling (202) 622-5164. This is not a toll free number.

FOR FURTHER INFORMATION CONTACT: Chief, Office of Employee Protection, Internal Revenue Service, 477 Michigan Avenue, Detroit, MI 48226, telephone (313) 628-3742. This is not a toll free number.

SUPPLEMENTARY INFORMATION: This gives notice of a proposed alteration to a Department of the Treasury, Internal Revenue Service system of records entitled “Treasury/IRS 60.000—Employee Protection System Records” which is subject to the Privacy Act of 1974, 5 U.S.C. 552a. The proposed alteration will add individuals who are potentially dangerous to IRS contractors to the system of records.

The Employee Protection System Records system of records was established to enhance the security and safety of Internal Revenue Service employees who are engaged in the assessment and collection of Federal taxes. This system consists of information furnished by Internal Revenue Service employees or other parties with respect to an individual who is involved in a tax administration matter before the Internal Revenue Service.

The records in this system are maintained for a period of five years, after which the records are reviewed to determine whether there is a need to maintain the information in the system. This system currently consists primarily of records of potentially dangerous taxpayers formerly maintained under the system of records entitled “Treasury/IRS 60.001—Assault and Threat Investigation Files, Inspection, and Records” pertaining to assaults, threats, and suicide threats maintained in the Treasury/IRS 60.007—Miscellaneous Information File, Inspection.

The alteration will add records to the system that will include reports of incidents of threats of harm to, or intimidation of, government contractors by individual taxpayers, threats of suicide made by a taxpayer in response to a contact by a government contractor, results of investigations into those incidents, determinations as to whether the taxpayer should be considered a potentially dangerous taxpayer or a taxpayer who should be approached with caution, and related correspondence.

The system notice was last published in its entirety in the Federal Register on November 30, 2001, at 66 FR 59839.

The report of an altered system of records, as required by 5 U.S.C. 552a(r) of the Privacy Act, has been submitted to the Committee on Government Reform of the House of Representatives, the Committee on Homeland Security and Governmental Affairs of the Senate, and the Office of Management and Budget, pursuant to Appendix I to OMB Circular A-130, “Federal Agency Responsibilities for Maintaining Records About Individuals,” dated November 30, 2000.

For the above reasons, the IRS proposes to amend its system of records as set forth below:

Treasury/IRS 60.000

System name:

Employee Protection System Records

* * * * *

Categories of individuals covered by the system:

Description of the changes:

a. The first sentence is removed and in its place add the following sentence to read: “Individuals attempting to interfere with the administration of internal revenue laws through assaults, threats, suicide threats, filing or threats of filing frivolous criminal or civil legal action against Internal Revenue Service (IRS) employees or contractors or the employees' or contractors' immediate family members, or forcible interference of any officer, government contractor or employee while discharging the official duties at his/her position.”

* * * * *

b. Category (4) is amended by adding “or contractor” immediately after the words “employees” and is revised to read: “Individuals who have committed the acts set forth in any of the above criteria, but whose acts have been directed against employees or contractors of other governmental agencies at Federal, State, county, or local levels;”

* * * * *

Category of records in the system:

Description of the changes: Category (8) is amended by adding “or contractors” immediately after the words “IRS employee” and is revised to read: “(8) Correspondence regarding the reporting of the incident, referrals for investigation, investigation of the incident; and result of investigation (i.e. designation as potentially dangerous taxpayer, or other designation to alert IRS employees or contractors to approach the individual with caution).”

* * * * *

Purpose:

Description of the change: Remove the current entry and in its place add the following language: “This system of records documents reports by Internal Revenue Service employees of attempts by taxpayers to obstruct or impede Internal Revenue Service employees, contractors, or other law enforcement personnel in the performance of their official duties, investigations into the matters reported, and conclusions as to whether the taxpayers should be considered potentially dangerous taxpayers or should otherwise be approached with caution by employees or contractors of the Internal Revenue Service or any other law enforcement organization.”

Routine Uses of Records Maintained in the System, Including Categories of Users and the Purposes of Such Uses:

* * * * *

Description of change: The period at the end of routine use (6) is replaced with a semicolon, “;” and the following routine use is added at the end thereof: “(7) Provide information to a government contractor to alert the contractor that a taxpayer may be potentially dangerous.”

* * * * *

Records source categories:

Description of the change: Remove the current entry and in its place add the following to read: “Department of the Treasury personnel and records, newspapers and periodicals, taxpayers (witnesses and informants), state and local government agency personnel and records, and anonymous individuals. This system of records may also contain investigatory material compiled for criminal law enforcement purposes whose sources need not be reported.”

* * * * *

Dated: April 25, 2005.
Jesus Delgado-Jenkins,
Acting Assistant Secretary for Management.

[FR Doc. 05-8852 Filed 5-3-05; 8:45 am]

BILLING CODE 4830-01-P